DEPARTMENT OF COMMERCE

Bureau of Industry and Security

15 CFR Part 744

[Docket No. 250929-0163]

RIN 0694-AK05

Additions to the Entity List

AGENCY: Bureau of Industry and Security, Department of Commerce.

ACTION: Final rule.

SUMMARY: In this rule, the Bureau of Industry and Security (BIS) amends the Export Administration Regulations (EAR) by adding 29 entries (26 entities and 3 addresses) to the Entity List under the destinations of People's Republic of China (China) (19), Turkey (9), and the United Arab Emirates (UAE) (1). These entities have been determined by the U.S. Government to be acting contrary to the national security or foreign policy interests of the United States.

DATES: This rule is effective October 8, 2025.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR imposes additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR.

Entity List license requirements and other Entity List restrictions also apply to any foreign entity that is owned, directly or indirectly, individually or in aggregate, 50 percent or more by one or more listed entities. Exclusions to this rule will be identified by specifying in the relevant entry on the Entity List that the 50 percent ownership rule does not apply to any foreign affiliate owned by a particular listed entity or that a specific foreign affiliate is excluded. For any foreign entity that is owned, directly or indirectly, individually or in aggregate, 50 percent or more by one or more listed entities with different Entity List license requirements, the most restrictive of those Entity List license requirements apply to that foreign entity. If an exporter, reexporter, or transferor cannot determine the ownership percentage of a foreign entity that is an entity owned by one or more listed entities, they must resolve the Red Flag or obtain a license from BIS prior to proceeding with the export, reexport, or transfer (in-country), unless a license exception is available (see Red Flag 29 in supplement no. 3 to part 732). The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Additions to the Entity List

The ERC determined to add Goodview Global, under the destination of China, to the Entity List. This entity is part of an illicit procurement network that supplies components, including UAV components, to front companies of the Islamic Revolutionary Guard Corps' Qods Force (IRGC-QF). In 2007, the U.S. Department of the Treasury's Office of Foreign Assets Control (OFAC) sanctioned the IRGC-QF pursuant to E.O. 13224, Designating Cartels and Other Organizations as Foreign Terrorist Organizations and Specially Designated Global Terrorists, for providing material support to the Taliban and other terrorist organizations. The illicit procurement of UAV and other component parts and the supplying of those parts to IRGC-QF-affiliated companies is contrary to the national security and foreign policy interests of the United States under § 744.11 of the EAR. This entity is added with a license requirement for all items subject to the EAR, and licenses will be reviewed under a presumption of denial.

The ERC determined to add Atadoruk Havacilik Savunma Sanayi Ticaret Limited Sirketi; Business Metal Sanayi Ve Dis Ticaret Limited Sirketi; DBC Makina Sanayi ve Ticaret A.S.; Ercetin Is Makinalari Yedek Parcalari Insaat Ve Dis Ticaret Limited Sirketi; PMR Teknik Makine Ticaret Limited Sirketi; UMS Ankara Kalibrasyon Mühendislik Müusavirlik Mümessillik Sanayi Ve Ticaret Limited Sirketi; and Yant Insaat Gida Turizm Sanayi Dis Ticaret Limited Sirketi, under the destination of Turkey, to the Entity List. These additions are being made based on information indicating that these companies divert U.S.-origin items to Iran, including to parties on the BIS Entity List and on OFAC's Specially Designated Nationals (SDN) List. Iran has been subject to comprehensive sanctions and export controls by the United States for decades and, pursuant to § 746.7 of the EAR, most items on the Commerce Control List, and certain EAR99 items, require a license or other authorization from BIS for export, reexport, or in-country transfer to or within Iran. The diversion of U.S.-origin items in contravention of these controls is contrary to U.S. national security and foreign policy interests under § 744.11 of the EAR. A license is required for all items subject to the EAR. License applications will be reviewed under a presumption of denial.

The ERC determined to add TGB Aviation, under the destination of Turkey, to the Entity List. This entity is associated with the transshipment of U.S.-origin aircraft components into Iran. This transshipment network is connected to Iran Aircraft Manufacturing Industries (HESA), an entity designated by the OFAC as an SDN. This activity is contrary to the national security and foreign policy interests of the United States under § 744.11 of the EAR. These entities will be added with a license requirement for all items subject to the EAR and licenses will be reviewed under a presumption of denial.

The ERC determined to add Sisdoz Aritma Ve Pompa Teknolojileri Sanayi Ticaret Anonim Sirketi, under the destination of Turkey, and Royal Impact Trading L.L.C., under the destination of the UAE, to the Entity List. These additions are being made because these entities have diverted U.S.-origin items to Iran, including items classified under Export Control Classification Number (ECCN) 2B350. Iran has been subject to comprehensive sanctions and export controls by the United States for decades, including pursuant to § 746.7 of the EAR. Most items on the Commerce Control List, and certain EAR99 items, require a license or other authorization from BIS for export, reexport, or in-country transfer to or within Iran. Diversion of U.S.-origin items in contravention of these controls is contrary to U.S. national security and foreign policy interests under § 744.11 of the EAR. A license is required for all items subject to the EAR, and license applications will be reviewed under a presumption of denial.

The ERC determined to add Arrow China Electronics Trading Co., Ltd.; Arrow Electronics (Hong Kong) Co., Ltd.; Beijing Kevins Technology Development Co., Ltd.; Beijing Plenary Technology Co., Ltd.; Beijing Rageflight Technology Co., Ltd.; Gansu Shuili Hoisting Equipment Co., Ltd.; Jinan Xin Yin Bo Electronic Equipment Co. Ltd.; Schmidt & Co., (HK) Ltd.; Shangdong Xin Yin Bo IOT Technology Co. Ltd.; and Shanghai Sisheng Power Control Technology Co., Ltd., under the destination of China, to the Entity List. Since 2017, nations located in the Gulf and Middle East regions have recovered numerous weaponized unmanned aircraft systems (UAS) operated by Iranian proxies, including Houthi militants. Exploitation of the recovered UAS debris identified multiple U.S.-origin electronic components. The addition of these ten entities is based on information indicating that these entities facilitated the purchase of some of these electronic components. These activities are contrary to the national security and foreign policy interests of the United States. These entities are added with a license requirement for all items subject to the EAR and license applications will be reviewed under a presumption of denial.

The ERC determined to add five entities to the Entity List under the destination of China: Easy Fly Intelligent Technology Co., Ltd; Feng Bao Trading Hong Kong Ltd; Feng Bao Electronic Information Technology (Shanghai) Co., Ltd; Shanghai Bitconn Electronics Co., Ltd.; and Shanghai Langqing Electronic Technology Co. These additions are being made based on information indicating that around October 7, 2023, Israel Defense Forces recovered numerous weaponized unmanned aircraft vehicles (UAVs) operated by Iranian proxies, including Hamas militants. Exploitation of the recovered UAV debris identified multiple U.S.-origin electronic components. Information indicates that these entities facilitated the purchase and procurement of some of these electronic components. The procurement of U.S.-origin electronic components for Iranian proxies is contrary to U.S. national security and foreign policy interests under § 744.11 of the EAR. A license is required for all items subject to the EAR. License applications will be reviewed under a presumption of denial.

The ERC determined to add three addresses, all under the destination of China, to the Entity List. These addresses are denoted as Address 16, 17, and 18. These addresses are associated with the procurement network of Emily Liu, an individual previously designated by OFAC for having provided and/or attempted to provide support for Iran's Shiraz Electronics Industries (SEI). OFAC designated SEI as an SDN for being owned or controlled by Iran's Ministry of Defense and Armed Forces Logistics (MODAFL). These activities are contrary to U.S. national security and foreign policy interests under § 744.11 of the EAR. Licenses will be required for all entities at these addresses for all items on the Commerce Control List and EAR99 items listed in supplement no. 7 to part 746 of the EAR. License applications will be reviewed with a license review policy of presumption of denial.

For the reasons described above, this final rule adds the following 26 entities and 3 addresses to the Entity List and includes, where appropriate, aliases:

China

• Address 16,

• Address 17,

• Address 18,

• Arrow China Electronics Trading Co., Ltd.,

• Arrow Electronics (Hong Kong) Co., Ltd.,

• Beijing Kevins Technology Development Co., Ltd.,

• Beijing Plenary Technology Co., Ltd.,

• Beijing Rageflight Technology Co., Ltd.,

• Easy Fly Intelligent Technology Co., Ltd,

• Feng Bao Electronic Information Technology (Shanghai) Co., Ltd.,

• Feng Bao Trading Hong Kong Ltd,

• Gansu Shuili Hoisting Equipment Co., Ltd.,

• Goodview Global,

• Jinan Xin Yin Bo Electronic Equipment Co., Ltd.,

• Schmidt & Co., (HK) Ltd.,

• Shandong Xin Yin Bo IOT Technology Co., Ltd.,

• Shanghai Bitconn Electronics Co., Ltd.,

• Shanghai Langqing Electronic Technology Co., and

• Shanghai Sisheng Power Control Technology Co., Ltd.

Turkey

• Atadoruk Havacilik Savunma Sanayi Ticaret Limited Sirketi,

• Business Metal Sanayi Ve Dis Ticaret Limited Sirketi,

• DBC Makina Sanayi ve Ticaret A.S.,

• Ercetin Is Makinalari Yedek Parcalari Insaat Ve Dis Ticaret Limited Sirketi,

• PMR Teknik Makine Ticaret Limited Sirketi,

• Sisdoz Aritma Ve Pompa Teknolojileri Sanayi Ticaret Anonim Sirketi,

• TGB Aviation,

• UMS Ankara Kalibrasyon Mühendislik Müşavirlik Mümessillik Sanayi Ve Ticaret, Limited Sirketi, and

• Yant Insaat Gida Turizm Sanayi Dis Ticaret Limited Sirketi.

United Arab Emirates

• Royal Impact Trading L.L.C.

Savings Clause

Shipments of items removed from eligibility for a License Exception or export, reexport, or transfer (in-country) without a license (NLR) as a result of this regulatory action that were en route aboard a carrier to a port of export, reexport, or transfer (in-country), on October 8, 2025, pursuant to actual orders for export, reexport, or transfer (in-country) to or within a foreign destination, may proceed to that destination under the previous eligibility for a License Exception or export, reexport, or transfer (in-country) without a license (NLR), provided the export, reexport, or transfer (in-country) is completed no later than on November 7, 2025.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. In particular, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, establishing and maintaining a list of foreign persons and end-uses that are determined to be a threat to the national security and foreign policy of the United States pursuant to the policy set forth in Section 1752(2)(A), and restricting exports, reexports, and in-country transfers of any controlled items to any foreign person or end-use so listed; apprising the public of changes in policy, regulations, and procedures; and any other action necessary to carry out ECRA that is not otherwise prohibited by law. Pursuant to Section 1762(a) of ECRA (50 U.S.C. 4821(a)), these changes can be imposed in a final rule without prior notice and comment.

Rulemaking Requirements

1. This rule has been determined to be not significant for purposes of Executive Order 12866. This final rule is exempt from E.O. 14192 because it is being issued with respect to a national security function of the United States.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date. 5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 18, 2024, 89 FR 77011 (September 20, 2024); Notice of November 7, 2024, 89 FR 88867 (November 8, 2024); Notice of August 4, 2025, 90 FR 37999 (August 6, 2025).

2. Supplement no. 4 to part 744 is amended by:

a. Under CHINA, PEOPLE'S REPUBLIC OF, adding in alphabetical order, entries for “Address 16”; “Address 17”; “Address 18”; “Arrow China Electronics Trading Co., Ltd.”; “Arrow Electronics (Hong Kong) Co., Ltd.”; “Beijing Kevins Technology Development Co., Ltd.”; “Beijing Plenary Technology Co., Ltd.”; “Beijing Rageflight Technology Co., Ltd.”; “Easy Fly Intelligent Technology Co., Ltd”; “Feng Bao Electronic Information Technology (Shanghai) Co., Ltd.”; “Feng Bao Trading Hong Kong Ltd”; “Gansu Shuili Hoisting Equipment Co., Ltd.”; “Goodview Global”; “Jinan Xin Yin Bo Electronic Equipment Co., Ltd.”; “Schmidt & Co., (HK) Ltd.”; “Shandong Xin Yin Bo IOT Technology Co., Ltd.”; “Shanghai Bitconn Electronics Co., Ltd.”; “Shanghai Langqing Electronic Technology Co.”; and “Shanghai Sisheng Power Control Technology Co., Ltd.”;

b. Under TURKEY, adding in alphabetical order, entries for “Atadoruk Havacilik Savunma Sanayi Ticaret Limited Sirketi”; “Business Metal Sanayi Ve Dis Ticaret Limited Sirketi”; “DBC Makina Sanayi ve Ticaret A.S.”; “Ercetin Is Makinalari Yedek Parcalari Insaat Ve Dis Ticaret Limited Sirketi”; “PMR Teknik Makine Ticaret Limited Sirketi”; “Sisdoz Aritma Ve Pompa Teknolojileri Sanayi Ticaret Anonim Sirketi”; “TGB Aviation”; “UMS Ankara Kalibrasyon Mühendislik Müşavirlik Mümessillik Sanayi Ve Ticaret Limited Sirketi”; and “Yant Insaat Gida Turizm Sanayi Dis Ticaret Limited Sirketi”; and

c. Under UNITED ARAB EMIRATES, adding in alphabetical order, an entry for “Royal Impact Trading L.L.C.”

The additions read as follows:

Supplement No. 4 to Part 744—Entity List

* * * * *

Country | Entity | License requirement | License review policy | Federal Register citation
* * * * * * *
CHINA, PEOPLE'S REPUBLIC OF | * * * * * *
| Address 16, 14C, Hung Shui Kiu Main Street, Yuen Long, N.T., Hong Kong. | For items on the CCL and EAR 99 items listed in supplement no. 7 to part 746 of the EAR | Presumption of denial | 90 FR [INSERT FR PAGE NUMBER, 10/9/25].
| Address 17, Rm. 1605A, Ho King Commercial Center, 2-16 Fa Yuen Street, Mong Kok, Kowloon, Hong Kong. | For items on the CCL and EAR99 items listed in supplement no. 7 to part 746 of the EAR | Presumption of denial | 90 FR [INSERT FR PAGE NUMBER, 10/9/25].
| Address 18, Room 1605, Ho King Commercial Center, 2-16 Fa Yuen Street, Mong Kok, Kowloon, Hong Kong. | For items on the CCL and EAR 99 items listed in supplement no. 7 to part 746 of the EAR | Presumption of denial | 90 FR [INSERT FR PAGE NUMBER, 10/9/25].
| * * * * * *
| Arrow China Electronics Trading Co., Ltd., a.k.a., the following one alias: —Arrow (China) Electronics Trading Company Limited. | For all items subject to the EAR. (See § 744.11 of the EAR) | Presumption of denial | 90 FR [INSERT FR PAGE NUMBER, 10/9/25].
| Section A, Building 1, No. 275, Basheng Road, Shanghai, China; and Section A, Building 1, No. 360, Basheng Road, Shanghai, China; and Building 1, No. 30, Fute East 3rd Road, Shanghai, China; and Room 313, 3rd Floor, Building 1, No. 24, Jiafeng Road, Shanghai, China; and 300 Longdong Avenue, Integrated Circuit Industry Zone, Zhangjiang Hi-Tech Park, Shanghai, China; and C08, 6th Floor, No. 768 Lingqiao Road, Ningbo, China; and Room 610, 611, 612, No. 81, Xuanyue East Street, Guangzhou, China; and Building T1, 25th Floor, No. 5001, Huanggang Road, Huafu Street, Shenzhen, China; and 16th Floor, Building A, No. 11, Keji East Road, Fuzhou, China; and Room 902, West Nine Building, No. 167, Shihua West Road, Zhuhai, China; and No. 268-1, Qingnian Street, Shenyang, China; and 12th Floor, Qingdao International Shipping Center, No. 66 Lianyungang Road, Qingdao, China; and Baiyang Building, No. 18 Dongyu Street, Chengdu, China; and No. 1, 2A, 8th Floor, Unit 6, Block K2, Shui'an International, Wuhan, China; and Building 24, Suzhou Industrial Park, Suzhou, China; and 17th Floor, Tianxia Building, No. 82, Yueda Lane, Changhe Street, Hangzhou, China; and Block H, 21st Floor, TEDA Building, No. 256, Jiefang South Road, Tianjin, China; and 10th Floor, Block 3, Zhongjun Building, No. 212, Gaoqi South 5th Road, Xiamen, China; and 8th Floor, Yongli International Financial Center, No. 6 Jinye Road, Xi'an, China; and 11th Floor, Baokuang Intercontinental Business Plaza, No. 100 Yutong Road, Shanghai, China; and 11th Floor, No. 6, Jiuxianqiao Road, Beijing, China; and No. 89, Shengli Road, Nanjing, China.
| Arrow Electronics (Hong Kong) Co., Ltd., a.k.a., the following six aliases: —Arrow/Components Agent Limited; —Components Agent Limited; —Components Agents Limited; —Arrow Electronics; —Arrow Asia Pac Ltd; and —Arrow Asia Pacific Limited. 2/F and 3/F, Green 18, Phase 2, Hong Kong Science Park, Hong Kong; and 20/F, Tower 2, Evergreen Plaza, 88 Container Port Road, Kwai Chung, Hong Kong; Lot 204, DD105, Castle Peak Road, Yuen Long, Hong Kong; and Unit 1003, Kerry Cargo Center, 55 Wing Kei Road, Kwai Chung, Hong Kong; and Units 11001-11008E & 11001-110012W, 11th Floor, ATL Logistics Centre B, No. 8 Container Port Road South, Kwai Chung, Hong Kong; Unit 5001-5004W, 5th Floor, ATL Logistics Centre A, No. 8 Container Port Road South, Kwai Chung, Hong Kong; and Unit 5015E-5020E, 5th Floor, ATL Logistics Centre B, No. 8 Container Port Road South, Kwai Chung, Hong Kong. | For all items subject to the EAR. (See § 744.11 of the EAR) | Presumption of denial | 90 FR [INSERT FR PAGE NUMBER, 10/9/25].
| * * * * * *
| Beijing Kevins Technology Development Co., Ltd., a.k.a., the following one alias: —Beijing Kvs Science & Tech. Development Co., Ltd. | For all items subject to the EAR. (See § 744.11 of the EAR) | Presumption of denial | 90 FR [INSERT FR PAGE NUMBER, 10/9/25].
| Room A220, Linglong Tiandi, No. 160, West Fourth Ring Road North, Beijing, China; and Room 2206, Yingke Building, Beijing, China; and 1712 & 1715 Zhongkun Plaza, 59 Gaoliangqiaoxiejie Street, Beijing, China; and Unit 1702, No. 59 E Street, Sanshan Building, North Building, Fuzhou, China; and Suite 709710, No. 17 Madian East Road, Beijing, China.
| * * * * * *
| Beijing Plenary Technology Co., Ltd., Room 1002, 10th Floor, Building 7, No. 6 Zhuoxiu North Street, Beijing, China; and Room 710, Building 13th Yard 5T, Yihebei Road, Fangshan District, Beijing, China. | For all items subject to the EAR. (See § 744.11 of the EAR) | Presumption of denial | 90 FR [INSERT FR PAGE NUMBER, 10/9/25].
| Beijing Rageflight Technology Co., Ltd., a.k.a., the following three aliases: —Beijing Rageflight; —Shangyi Technology (Beijing) Co., Ltd.; and —Sunwing Technology (Beijing) Co., Ltd. | For all items subject to the EAR. (See § 744.11 of the EAR) | Presumption of denial | 90 FR [INSERT FR PAGE NUMBER, 10/9/25].
| 201-212073, Zone 6, Zhongguancun Science and Technology Park, Beijing, China; and 14th Floor, Shining Building, No. 35 Xueyuan Road, Beijing, China; and Building D, No. 2-2 Shangdi Information Road, Beijing, China; and B306, Solefish Entrepreneurship Park, Beijing, China.
| * * * * * *
| Easy Fly Intelligent Technology Co., Ltd., a.k.a., the following three aliases: —Wuhan Drone Home Information Technology Co. Ltd.; —Wuhan Yifei Intelligent Management Consulting Partnership (Limited Partnership); and —Yifei Intelligent Technology (Wuhan) Co., Ltd. | For all items subject to the EAR. (See § 744.11 of the EAR) | Presumption of denial | 90 FR [INSERT FR PAGE NUMBER, 10/9/25].
| 4th Floor, 7th Building of Sun, City of Gezhou Dam, Gaoxin 4th Road, East Lake New Technology Development Zone, Wuhan, 430000, China; and East Lake Development Zone, Wuhan City High Tech Four Road, Gezhouba Dam City, 4 Buildings, 7 Buildings, Wuhan, 430000, China; and Room 1, Building 7, No. 40, Wuhan, Hubei Province 434400, China; and Gezhouba Sun City, No. 40, Gaoxin 4th Road, Building 7, 4th Floor, Room 1, East Lake New Technology Development Zone, Wuhan, China.
| * * * * * *
| Feng Bao Electronic Information Technology (Shanghai) Co., Ltd., a.k.a., the following one alias: —LINPO. | For all items subject to the EAR. (See § 744.11 of the EAR) | Presumption of denial | 90 FR [INSERT FR PAGE NUMBER, 10/9/25].
| Room A-522, No. 188 Yesheng Road, Lingang New Area, Shanghai, China; and Building 20, No. 487, Tianlin Road, Shanghai, China; and Kingkey Riverside Times Building, No. 9289, Binhe Avenue, Shenzhen, China; and Building 1, No. 4, Beitucheng East Road, Beijing, China; and Room 909, Jinlun International, No. 8 Hanzhong Road, Nanjing, China; and E502-2, International Science and Technology Park, Jinji Lake Avenue, Suzhou, China; and Building 5, Shanda International, No. 46, Shuxi Road, Chengdu, China; and Building 4, Yuquanshan, Huangjin Road, Dongguan, China; and Building A, Jiangnan Avenue, Hangzhou, China; and Building 2, Yabulun Industrial Park, Yazhou Bay Science and Technology City, Sanya, China; and Building B1, No. 4670-162, Xianyue Road, Xiamen, China; and Building 1, No. 51, Furong East Road, Xi'an, China; and Building B2, Poly Metropolis, No. 290, Hanxi Avenue East, Guangzhou, China; and Building 2, Optics Valley World City, Wuhan, China.
| Feng Bao Trading Hong Kong Ltd., a.k.a., the following four aliases: —Linpo Nanotech Limited; —Linpo Sigma HK Limited; —Linpo Korea (HK) Limited; and —Global Corporation (HK) Limited. | For all items subject to the EAR. (See § 744.11 of the EAR) | Presumption of denial | 90 FR [INSERT FR PAGE NUMBER, 10/9/25].
| 9th Floor, Fook Hong Industrial Building, 19 Sheung Yuet Road, Kowloon Bay, Hong Kong; and 1st Floor, Goldlion Holding, No. 13-15, Yuen Shun Circuit, Satin, Hong Kong.
| * * * * * *
| Gansu Shuili Hoisting Equipment Co., Ltd., Unit 2, No. 28, Xiaoxihu West Street, Lanzhou, China. | For all items subject to the EAR. (See § 744.11 of the EAR) | Presumption of denial | 90 FR [INSERT FR PAGE NUMBER, 10/9/25].
| * * * * * *
| Goodview Global, a.k.a., the following two aliases: —Goodview Global Ltd.; and —Shenzhen Goodview Global Industry Co Ltd. | For all items subject to the EAR. (See § 744.11 of the EAR) | Presumption of denial | 90 FR [INSERT FR PAGE NUMBER, 10/9/25].
| Room 301 Renmin Road, Richuyinxiang Garden A Block, Bao an District, Shenzhen, China; and Rm. 1611 Building A3 Changsha Taskin City Plaza, Yuhua District, Changsha, China; and RM9018 B block Xinrong Bld., Mingbao Rd., Longhua District, Shenzhen, Guangdong, China; and Rm2003 #A3 Buliding, Desiqin City Square, Yuehua District, Changsha, China; and Forte Land Square Yuhua District Rm19073 #a6 Buliding, Changsha, China.
| * * * * * *
| Jinan Xin Yin Bo Electronic Equipment Co., Ltd., a.k.a., the following one alias: —Jinan Xinyinbo Electronic Equipment Co. Ltd. | For all items subject to the EAR. (See § 744.11 of the EAR) | Presumption of denial | 90 FR [INSERT FR PAGE NUMBER, 10/9/25].
| Room 906, Building A, Huaqiang International Center, No. 157 Shanda Road, Lixia, Jinan, Shandong, China; and Room 907, Building A, Huaqiang International Center, No. 157 Shanda Road, Lixia, Jinan, Shandong, China; and 1-1001, Building 5, District 2, Chang'an New Town, Fengtai District, Beijing, China; and No. 179, Tianyunshan 1st Road, Jimo, Qingdao, China.
| * * * * * *
| Schmidt & Co., (HK) Ltd., a.k.a., the following two aliases: —Hing Wah Technology Co. Ltd.; and —Xinghua Scientific Instrument Co. Ltd. | For all items subject to the EAR. (See § 744.11 of the EAR) | Presumption of denial | 90 FR [INSERT FR PAGE NUMBER, 10/9/25].
| No. 210, Building 4B, Honghua Road, Futian Free Trade Zone, Shenzhen, China; and Unit 1703a, 17/F, Nanyang Plaza, 57 Hung To Road, Kwun Tong, Kowloon, Hong Kong; and Unit 1108, 11/F, Westly Square, 48 Hoi Yuen Road, Kwun Tong, Hong Kong; and Room 8, 3/F, No. 1014 Kwei Tei Street, Hong Kong; and Unit 1406A, 14th Floor, Nanyang Plaza, 57 Hung To Road, Kwun Tong, Kowloon, Hong Kong.
| * * * * * *
| Shandong Xin Yin Bo IOT Technology Co., Ltd., a.k.a., the following three aliases: —Shandong Xinyinbo IOT Technology Co. Ltd; —Shandong Maojia IOT Technology Co. Ltd.; and —Shandong MaoJiaHuTong IOT Technology Co. Ltd. | For all items subject to the EAR. (See § 744.11 of the EAR) | Presumption of denial | 90 FR [INSERT FR PAGE NUMBER, 10/9/25].
| No. 3809, Cyberport Building, No. 47 Shanda Road, Jinan, Shandong, China; and Room A906, Huaqiang International Center, No. 157 Shanda Road, Jinan, Shandong, China; and 1-1001, Building 5, District 2, Chang'an New Town, Fengtai District, Beijing, China.
| * * * * * *
| Shanghai Bitconn Electronics Co., Ltd., D220, Building 3, No. 4288, Duyuan Road, Minhang District, Shanghai, China 201108; and Room 210, Block D, No. 4288 Duyuan Road, Minhang District, Shanghai, China 201108; and Building 36, No. 70, 4th Floor, Room J1764, Bole Road, Jiading Town, Jiading District, Shanghai, China. | For all items subject to the EAR. (See § 744.11 of the EAR) | Presumption of denial | 90 FR [INSERT FR PAGE NUMBER, 10/9/25].
| * * * * * *
| Shanghai Langqing Electronic Technology Co., 1103, Zhejiang Building, Haizhou District, Fuxin City, Liaoning Province, Shanghai 123000, China; and No. 98, Lane 901, Kangye Road, Zone E, 3rd Floor, Room 318, Zhujiajiao Town, Qingpu District, Shanghai, China. | For all items subject to the EAR. (See § 744.11 of the EAR) | Presumption of denial | 90 FR [INSERT FR PAGE NUMBER, 10/9/25].
| Shanghai Sisheng Power Control Technology Co., Ltd., a.k.a., the following one alias: —Shanghai Sisheng Technology Co. | For all items subject to the EAR. (See § 744.11 of the EAR) | Presumption of denial | 90 FR [INSERT FR PAGE NUMBER, 10/9/25].
| Room 1127, Building 1, No. 88, Hengxi Road, Shanghai, China; and Room 201, 91 Asan Road.
| * * * * * *
* * * * * * *
TURKEY | * * * * * *
| Atadoruk Havacilik Savunma Sanayi Ticaret Limited Sirketi, a.k.a., the following two aliases: —ATA Doruk Aviation; and —Atadoruk Aviation. 29 Alacakent Sitesi, Block C 3356 Sokak Alacaatli Mahallesi Ankara, Turkey; and Yesilova Mah. 4048 Cadde Begonvil APT A2 Blok No. 11 Etimesgut, Ankara, 06720, Turkey. | For all items subject to the EAR. (See § 744.11 of the EAR) | Presumption of denial | 90 FR [INSERT FR PAGE NUMBER, 10/9/25].
| * * * * * *
| Business Metal Sanayi Ve Dis Ticaret Limited Sirketi, No: 3-232 Tasocagi Yolu Caddesi, Agaoglu My Office 212 Sitesi, Mahmutbey Mahallesi, Bagcilar, Istanbul (Europe) 34218, Turkey; and Atatürk Street A1 Block No: 10/1, Floor: 8 Office No: 291, Yesilkoy, Bakirkoy, Istanbul, Turkey. | For all items subject to the EAR. (See § 744.11 of the EAR) | Presumption of denial | 90 FR [INSERT FR PAGE NUMBER, 10/9/25].
| * * * * * *
| DBC Makina Sanayi ve Ticaret A.S., a.k.a., the following one alias: —D B C Makina Sanayi Ve Ticaret Anonim Sirketi. | For all items subject to the EAR. (See § 744.11 of the EAR) | Presumption of denial | 90 FR [INSERT FR PAGE NUMBER, 10/9/25].
| 23.Sk No: 9, Mermerciler Sanayii Sitesi, Koseler Mahallesi, 41455 Dilovasi/Kocaeli, Turkey; and Mermerciler Sanayi Sitesi, 23. S Anatolia Area Ta Dilovasi, Koseler, Kocaeli, 41900, Turkey.
| * * * * * *
| Ercetin Is Makinalari Yedek Parcalari Insaat Ve Dis Ticaret Limited Sirketi, Dogal Kagit, No: 3 Ferman Caddesi, Cumhuriyet Mahallesi Kartal, Istanbul (Anatolia), 34876, Turkey; and Organize Sanayi Bolgesi, Bagcilar—Gungoren Sanayi Sitesi 13a Blok No: 21-22-23-24-25 Marmara Bolgesi, Istanbul, Turkey. | For all items subject to the EAR. (See § 744.11 of the EAR) | Presumption of denial | 90 FR [INSERT FR PAGE NUMBER, 10/9/25].
| * * * * * *
| PMR Teknik Makine Ticaret Limited Sirketi, a.k.a., the following one alias: —Roziba Inan Co. | For all items subject to the EAR. (See § 744.11 of the EAR) | Presumption of denial | 90 FR [INSERT FR PAGE NUMBER, 10/9/25].
| Yener Apt, No: 2-5 Feyzullah Mahallesi, Ruveyda Sokak, Maltepe, Istanbul, 34843, Turkey; and Aydintepe Batu sok No 27, Evora T parsel, Tuzla-Istanbul, Turkey; and No: 36/4 Maresal Fevzi Cakmak Cad, Deniz Sitesi, Maltepe Yali Mah, Maltepe, Istanbul, Turkey.
| * * * * * *
| Sisdoz Aritma Ve Pompa Teknolojileri Sanayi Ticaret Anonim Sirketi, a.k.a., the following two aliases: —Sisdoz A.S.; and —Sisdoz Dozlama Sistemleri Uretim Ve Pazarlama Limited Sirketi. No: 1/A Atilla Cad., Kayisdagi Mahallesi, Atasehir, Istanbul, 34755, Turkey. | For all items subject to the EAR. (See § 744.11 of the EAR) | Presumption of denial | 90 FR [INSERT FR PAGE NUMBER, 10/9/25].
| * * * * * *
| TGB Aviation, a.k.a., the following one alias: —Tugberk Havacilik. | For all items subject to the EAR. (See § 744.11 of the EAR) | Presumption of denial | 90 FR [INSERT FR PAGE NUMBER, 10/9/25].
| Sarphan Finans Park, Finans Cad C Blok No. 5, K1 Ofis No. 29, Umraniye Kadikoy, Istanbul, Turkey; and Zeytinlik Mh Yakut Sk No. 58/3, Bakirkoy 34140, Istanbul, Turkey; and A1 Blok D17, Fikirtepe, Elit Concept Reuzgar Sok No. 44, Kadikoy, Istanbul, Turkey; and Yenisehir Mah Osmanli Bulvari No. 5/B, D79, Kurtkoy, Pendik, Istanbul, Turkey.
| * * * * * *
| UMS Ankara Kalibrasyon Mühendislik Müşavirlik Mümessillik Sanayi Ve Ticaret Limited Şirketi a.k.a., the following three aliases: —Ums Istanbul Kalibrasyon Muhendislik Musavirlik Mumessillik Sanayi Ve.; —UMS Kalite Elektriksel Kalibrasyon Deney Egitim Danısmanlık Muhendislik San. ve Tic. Ltd. Sti.; and —UMS Medikal Test Kalibrasyon Sanayi Ve Ticaret Limited Sirketi. | For all items subject to the EAR. (See § 744.11 of the EAR) | Presumption of denial | 90 FR [INSERT FR PAGE NUMBER, 10/9/25].
| 5 Ornek Sanayi Sitesi 1267/1. Sokak, Ostim, Yenimahalle Ankara, 06374 Turkiye; and No: 51/3A-7A, Dumlupinar Mahallesi Cemal Gursel Caddesi, Pendik Istanbul (Anatolia), 34890 Turkiye; and 1/1, 1151. Sk., Gul 86 Sitesi, Altınteri Bulvarı Ostim, Ankara, 06374 Türkiye; and No: 1, 1151 Sok., Gul 86 Yap Kooperatifi, Alınteri Bulvarı Ostim, Yeninmahalle, Ankara, 06374, Türkiye
| * * * * * *
| Yant Insaat Gida Turizm Sanayi Dis Ticaret Limited Sirketi, Ertuğrul Gazi Sok. No: 2E, Metropol İstanbul Sitesi A Blok, İç Kapi No: 607, Atatürk Mah., Atasehir, Istanbul, Turkey; and A1 Blok Floor 47 607 Ataturk Atasehir Blvd, Istanbul, 34758, Turkey. | For all items subject to the EAR. (See § 744.11 of the EAR) | Presumption of denial | 90 FR [INSERT FR PAGE NUMBER, 10/9/25].
| * * * * * *
* * * * * * *
UNITED ARAB EMIRATES | * * * * * *
| Royal Impact Trading L.L.C., P.O. Box 113225, Dubai, United Arab Emirates; and Office 211, Arif & Bintoak Tower, Al Karama, Dubai, Dubai, United Arab Emirates; and Bur Dubai Al Quoz 3, United Arab Emirates. | For all items subject to the EAR. (See § 744.11 of the EAR) | Presumption of denial | 90 FR [INSERT FR PAGE NUMBER, 10/9/25].
| * * * * * *
* * * * * * *

* * * * *

Julia A. Khersonsky,
Deputy Assistant Secretary for Strategic Trade.

[FR Doc. 2025-19508 Filed 10-8-25; 8:45 am]

BILLING CODE 3510-33-P